DEPARTMENT OF TRANSPORTATION

Federal Highway Administration

Notice of Availability of the Revised Record of Decision for the 1800 North (SR-37); 2000 West to I-15 Project in Utah and Final Federal Agency Actions

AGENCY: Utah Department of Transportation (UDOT), Federal Highway Administration (FHWA), Department of Transportation.

ACTION: Notice of Availability and Notice of Limitations on Claims for Judicial Review of Actions by UDOT and Other Federal Agencies.

SUMMARY: The FHWA, on behalf of UDOT, issuing this notice to announce the availability of the Revised Record of Decision (ROD) and actions taken by UDOT that are final. The actions relate to the proposed 1800 North (SR-37); 2000 West to I-15 project, in the cities of Clinton and Sunset, Davis County, Utah. Those actions grant licenses, permits, and/or approvals for the project.

DATES: This decision became operative on October 4, 2024. By this notice, FHWA, on behalf of UDOT, is advising the public of final agency actions subject to 23 U.S.C. 139(l)(1). A claim seeking judicial review of the Federal agency actions on the highway project will be barred unless the claim is filed on or before May 15, 2025. If the Federal law that authorizes judicial review of a claim provides a time period of less than 150 days for filing such claim, then that shorter time period still applies.

FOR FURTHER INFORMATION CONTACT: Naomi Kisen, Environmental Program Manager, UDOT Environmental Services, PO Box 148450, Salt Lake City, UT 84114; (801)-965-4005; email: nkisen@utah.gov. UDOT's normal business hours are 8 a.m. to 5 p.m. (Mountain Time Zone), Monday through Friday, except State and Federal holidays.

SUPPLEMENTARY INFORMATION: The environmental review, consultation, and other actions required by applicable Federal environmental laws for this action are being, or have been, carried out by UDOT pursuant to 23 U.S.C. 327 and a Memorandum of Understanding (MOU) dated May 26, 2022, and executed by FHWA and UDOT. Under the MOU, UDOT is responsible for conducting any additional environmental review that is required for projects that were approved by FHWA prior to execution of the MOU. The Revised ROD was processed in accordance with the MOU, and UDOT is the agency responsible for approving the Revised ROD. Actions taken by UDOT on FHWA's behalf pursuant to 23 U.S.C. 327 constitute Federal agency actions for purposes of Federal law. Notice is hereby given that UDOT has taken final agency actions subject to 23 U.S.C. 139(l)(1) by issuing licenses, permits, and/or approvals for the 1800 North (SR-37); 2000 West to I-15 project in the State of Utah.

A Final Environmental Impact Statement (EIS) and section 4(f) Evaluation for 1800 North (SR-37); 2000 West to I-15 project was completed in December 2015 and approved through the issuance of a ROD on December 21, 2015, by the FHWA. Alternative F was identified as the Selected Alternative in the 2015 ROD. Alternative F included the widening of 1800 North to a five-lane cross-section; the grade-separation of 1800 North and the railroad at approximately 500 West; and an interchange that avoided the Army Rail Shop, a section 4(f) resource. Since the original ROD was issued, conditions in the project area have changed and UDOT completed a re-evaluation of the EIS in 2023. As a separate project, the Army Rail Shop and associated buildings protected by section 4(f) have been demolished and avoidance of these resources is no longer needed. As a result of the EIS Re-evaluation, UDOT has identified Alternative D as the new Selected Alternative.

The Project proposes to reduce congestion, improve mobility and access to I-15, and improve safety and operational characteristics on the 1800 North study corridor. Improvements will consist of a new interchange on I-15 at 1800 North; a grade-separated railroad crossing on 1800 North; and widening 1800 North between 2000 West and Main Street to a five-lane cross-section (two travel lanes in each direction with a two-way, left-turn lane) for most of the corridor. As 1800 North approaches 2000 West and Main Street, 1800 North would require additional lanes to accommodate turning movements. These improvements were identified in the EIS and EIS Re-evaluation prepared for the project by UDOT as Alternative D. The decision to approve Alternative D for the Project was based on UDOT's review of the entire record including the 2015 EIS and the 2023 EIS Re-evaluation as well as technical reports, correspondence, and other information developed as part of the environmental review process for the project.

The project is identified in UDOT's adopted 2025-2030 State Transportation Improvement Program as project identification number 15682 with funding identified for right-of-way, final design and construction. The project is also included in the adopted Wasatch Front Regional Council (WFRC) 2023-2050 Regional Transportation Plan approved in May 2024 (as amended in August 2024).

The actions by UDOT, and the laws under which such actions were taken, are described in the EIS Re-evaluation approved on October 16, 2023, and the Revised ROD approved on October 4, 2024, and other documents in the project records. The EIS Re-evaluation and Revised ROD are available for review by contacting UDOT at the address provided above. In addition, these documents can be viewed and downloaded from the project website at https://udotinput.utah.gov/1800north.

This notice applies to the EIS Re-evaluation, the Revised ROD, the section 4(f) determination, and all other UDOT and federal agency decisions and other actions with respect to the project as of the issuance date of this notice and all laws under which such actions were taken, including but not limited to the following laws (including their implementing regulations):

1. General: National Environmental Policy Act [42 U.S.C. 4321-4370m-12]; Federal-Aid Highway Act [23 U.S.C. 109 and 23 U.S.C. 128]; 23 U.S.C. 139.

2. Air: Clean Air Act [42 U.S.C. 7401-7671(q)].

3. Land: Section 4(f) of the Department of Transportation Act of 1966 [23 U.S.C. 138 and 49 U.S.C. 303]; Landscaping and Scenic Enhancement (Wildflowers) [23 U.S.C. 319].

4. Wildlife: Endangered Species Act [16 U.S.C. 1531-1544], Fish and Wildlife Coordination Act [16 U.S.C. 661-667d]; Migratory Bird Treaty Act [16 U.S.C. 703-712]; Bald and Golden Eagle Protection Act [16 U.S.C. 668-668d].

5. Historic and Cultural Resources: National Historic Preservation Act of 1966, as amended [54 U.S.C. 300101-307108]; Archaeological Resources Protection Act of 1979 [16 U.S.C. 470aa-470mm]; Archeological and Historic Preservation Act [54 U.S.C. 312501-312508]; Native American Grave Protection and Repatriation Act [25 U.S.C. 3001-3013].

6. Social and Economic: Title VI of Civil Rights Act of 1964 [42 U.S.C. 2000d-2000d-7]; American Indian Religious Freedom Act [42 U.S.C. 1996]; Farmland Protection Policy Act [7 U.S.C. 4201-4209].

7. Wetlands and Water Resources: Clean Water Act [33 U.S.C. 1251-1389]; Coastal Zone Management Act [16 U.S.C. 1451-1465]; Land and Water Conservation Fund Act [54 U.S.C. 200301-200310]; Safe Drinking Water Act [42 U.S.C. 300(f)-300(j)(6)]; Rivers and Harbors Appropriation Act of 1899, as amended [33 U.S.C. 401-418]; Emergency Wetlands Resources Act [16 U.S.C. 3921, 3931]; Flood Disaster Protection Act [42 U.S.C. 4001-4128].

8. Hazardous Materials: Comprehensive Environmental Response, Compensation, and Liability Act [42 U.S.C. 9601-9675]; Superfund Amendments and Reauthorization Act of 1986 [42 U.S.C. 9671-9675]; Resource Conservation and Recovery Act [42 U.S.C. 6901-6992k].

9. Noise: Noise Control Act of 1972 [42 U.S.C. 4901-4918].

10. Executive Orders: E.O. 11990 Protection of Wetlands; E.O. 11988 Floodplain Management; E.O. 12898 Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species; E.O. 13985 Advancing Racial Equity and Support for Underserved Communities Through the Federal Government; E.O. 13990 Protecting Public Health and the Environment and Restoring Science to Tackle the Climate Crisis; E.O. 14008 Tackling the Climate Crisis at Home and Abroad.

(Catalog of Federal Domestic Assistance Program Number 20.205, Highway Planning and Construction. The regulations implementing Executive Order 12372 regarding intergovernmental consultation on Federal programs and activities apply to this program.)

(Authority: 23 U.S.C. 139 (l)(1))

Ivan Marrero,
Division Administrator, Federal Highway Administration, Salt Lake City, Utah.

[FR Doc. 2024-29582 Filed 12-13-24; 8:45 am]

BILLING CODE 4910-RY-P